DEPARTMENT OF LABOR

Employment and Training Administration

[TA-W-50,566]

Barrett Business Services, Inc., Easton, MD; Notice of Termination of Investigation

Pursuant to section 221 of the Trade Act of 1974, as amended, an investigation was initiated on January 15, 2003, in response to a worker petition filed by the State of Maryland on behalf of workers at Barrett Business Services, Inc., Easton, Maryland.

The petitioning group of workers is covered by an active certification originally issued on October 10, 2002, and amended on February 5, 2003 (TA-41,976), which remains in effect.

Consequently, further investigation in this case would serve no purpose, and the investigation has been terminated.

Signed at Washington, DC, this 5th day of February, 2003.
Elliott S. Kushner,
Certifying Officer, Division of Trade Adjustment Assistance.

[FR Doc. 03-5558 Filed 3-7-03; 8:45 am]

BILLING CODE 4510-30-P